DEPARTMENT OF ENERGY

Federal Energy Regulatory Commission

Combined Notice of Filings # 2

Take notice that the Commission received the following electric rate filings:

Docket Numbers: ER24-166-001.

Applicants: Sun Streams Expansion, LLC.

Description: Tariff Amendment: Amended and Restated LGIA Co-Tenancy Agreement to be effective 10/21/2023.

Filed Date: 11/2/23.

Accession Number: 20231102-5067.

Comment Date: 5 p.m. ET 11/24/23.

Docket Numbers: ER24-167-001.

Applicants: Sun Pond, LLC.

Description: Tariff Amendment: Amended Certificate of Concurrence to be effective 10/21/2023.

Filed Date: 11/2/23.

Accession Number: 20231102-5070.

Comment Date: 5 p.m. ET 11/24/23.

Docket Numbers: ER24-217-000.

Applicants: NorthWestern Corporation.

Description: Supplement to October 26, 2023 NorthWestern Corporation tariff filing.

Filed Date: 10/27/23.

Accession Number: 20231027-5301.

Comment Date: 5 p.m. ET 11/17/23.

Docket Numbers: ER24-317-000.

Applicants: Southwest Power Pool, Inc.

Description: § 205(d) Rate Filing: 3914 Mother Road Solar Energy Surplus GIA Cancellation to be effective 3/26/2023.

Filed Date: 11/2/23.

Accession Number: 20231102-5047.

Comment Date: 5 p.m. ET 11/24/23.

Docket Numbers: ER24-318-000.

Applicants: Midcontinent Independent System Operator, Inc.

Description: § 205(d) Rate Filing: 2023-11-02_SA 3239 MEC-Wisconsin Power and Light 3rd Rev GIA (J534) to be effective 10/26/2023.

Filed Date: 11/2/23.

Accession Number: 20231102-5061.

Comment Date: 5 p.m. ET 11/24/23.

Docket Numbers: ER24-319-000.

Applicants: PJM Interconnection, L.L.C.

Description: § 205(d) Rate Filing: Ministerial Clean-Up Filing, Schedule 12-Appendix and Schedule 12-Appendix A to be effective 2/1/2023.

Filed Date: 11/2/23.

Accession Number: 20231102-5066.

Comment Date: 5 p.m. ET 11/24/23.

Docket Numbers: ER24-320-000.

Applicants: Idaho Power Company.

Description: § 205(d) Rate Filing: NITSA—Second Revised Service Agreement No. 334 to be effective 1/1/2024.

Filed Date: 11/2/23.

Accession Number: 20231102-5098.

Comment Date: 5 p.m. ET 11/24/23.

Docket Numbers: ER24-321-000.

Applicants: PJM Interconnection, L.L.C.

Description: § 205(d) Rate Filing: Revisions to Sch. 12-Appx A: October 2023 RTEP, 30-Day Comment Period Requested to be effective 1/31/2024.

Filed Date: 11/2/23.

Accession Number: 20231102-5110.

Comment Date: 5 p.m. ET 11/24/23.

Docket Numbers: ER24-322-000.

Applicants: FirstEnergy Service Company, PJM Interconnection, L.L.C.

Description: § 205(d) Rate Filing: FirstEnergy Service Company submits tariff filing per 35.13(a)(2)(iii: FirstEnergy submits Operating and Interconnection Agreement, SA No. 2853 to be effective 1/2/2024.

Filed Date: 11/2/23.

Accession Number: 20231102-5113.

Comment Date: 5 p.m. ET 11/24/23.

Docket Numbers: ER24-323-000.

Applicants: Clearwater Energy Resources LLC.

Description: § 205(d) Rate Filing: Amended Shared Interconnection Rights Agreement to be effective 10/30/2023.

Filed Date: 11/2/23.

Accession Number: 20231102-5133.

Comment Date: 5 p.m. ET 11/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 2, 2023.
Debbie-Anne A. Reese,
Deputy Secretary.

[FR Doc. 2023-24742 Filed 11-8-23; 8:45 am]

BILLING CODE 6717-01-P